NUCLEAR REGULATORY COMMISSION

Advisory Committee on the Medical Uses of Isotopes: Meeting Notice

AGENCY: U.S. Nuclear Regulatory Commission.

ACTION: Notice of meeting.

SUMMARY: The U.S. Nuclear Regulatory Commission will convene a meeting of the Advisory Committee on the Medical Uses of Isotopes (ACMUI). The agenda is under development, but will relate to issues arising from the revised 10 CFR part 35, Medical Use of Byproduct Material. To review agenda items as they become available, see http://www.nrc.gov/reading-rm/doc-collections/ acmui/schedules/2004/ or contactarw@nrc.gov.

DATES: ACMUI will hold a public meeting on March 1, 2004, from 8 a.m. to 5 p.m. On March 2, the ACMUI will convene at 8 a.m. for its public meeting, but will brief the Commission from 9:30 a.m.-12 p.m. At 1 p.m. on March 2, the ACMUI will recconvene, if necessary, to continue its public meeting until 5 p.m. The meeting and the Commission briefing will take place at the addresses provided below.

ADDRESSES: For Commission Briefing: U.S. Nuclear Regulatory Commission, One White Flint North Building, Commissioners' Conference Room 1G16, 11555 Rockville Pike, Rockville, MD, 20852-2738.

For Public Meeting: U.S. Nuclear Regulatory Commission, Two White Flint North Building, Auditorium, 11545 Rockville Pike, Rockville, MD 20852-2738.

FOR FURTHER INFORMATION CONTACT: Angela R. Williamson, telephone (301) 415-5030; e-mail arw@nrc.gov of the Office of Nuclear Material Safety and Safeguards, U.S. Nuclear Regulatory Commission, Washington, DC 20555-0001.

Conduct of the Meeting

Manuel D. Cerqueira, M.D., will chair the meeting. Dr. Cerqueira will conduct the meeting in a manner that will facilitate the orderly conduct of business. The following procedures apply to public participation in the meeting:

1. Persons who wish to provide a written statement should submit a reproducible copy to Angela R. Williamson, U.S. Nuclear Regulatory Commission, Two White Flint North, Mail Stop T8F5, 11545 Rockville Pike, Rockville, MD 20852-2738. Submittals must be postmarked by February 9, 2004, and must pertain to the topics on the agenda for the meeting.

2. Questions from members of the public will be permitted during the meeting, at the discretion of the Chairman.

3. The transcript and written comments will be available for inspection on NRC's Web site (www.nrc.gov) and at the NRC Public Document Room, 11555 Rockville Pike, Rockville, MD 20852-2738, telephone (800) 397-4209, on or about March 22, 2004. Minutes of the meeting will be available on or about May 3, 2004.

This meeting will be held in accordance with the Atomic Energy Act of 1954, as amended (primarily Section 161a); the Federal Advisory Committee Act (5 U.S.C. App); and the Commission's regulations in Title 10, U.S. Code of Federal Regulations, Part 7.

Dated: January 23, 2004.
Andrew L. Bates,
Advisory Committee Management Officer.

[FR Doc. E4-131 Filed 1-27-04; 8:45 am]

BILLING CODE 7590-01-P